DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-039100

Applicant: Nebraska Public Power District, Columbus, Nebraska.

The applicant requests a permit to conduct surveys for interior least terns (Sterna antillarum) in conjunction with recovery activities throughout the species' range for the purpose of enhancing its survival and recovery.

Permit No. TE-039267

Applicant: Ronald L. Hartman, Rocky Mountain Herbarium, Laramie, Wyoming.

The applicant requests a permit to take Osterhout milkvetch (Astragalus osterhoutii), North Park phacelia (Phacelia formosula), and Penland alpine fen mustard (Eutrema penlandii) in conjunction with recovery activities throughout the species' range for the purpose of enhancing their survival and recovery.

Permit No. TE-040242

Applicant: Harold Tyus, University of Colorado, Boulder, Colorado.

The applicant requests a permit to take Colorado pikeminnows (Ptychocheilus lucius), humpback chubs (Gila cypha), bonytail chubs (Gila elegans), and razorback suckers (Xyrauchen texanus) in conjunction with recovery activities throughout the species' range for the purpose of enhancing their survival and recovery.

Permit No. TE-040241

Applicant: Roger L. Boyd, Baker University, Baldwin City, Kansas.

The applicant requests a permit to take interior least terns (Sterna antillarum) in conjunction with recovery activities throughout the species' range for the purpose of enhancing its survival and recovery.

Written data or comments in regard to the applications should be sent to the address provided below. Documents and other information submitted in conjunction with this application are available for review, subject to the requirements of the Privacy Act and Freedom of Information Act, by any party who submits a written request for a copy of such documents to the following office within 30 days of the date of publication of this notice—U.S. Fish and Wildlife Service, P.O. Box 25486, Denver Federal Center, Denver, Colorado 80225-0486 (Attn: ARD-Ecological Services); phone (303) 236-7400 or fax (303) 236-0027.

Dated: April 12, 2001.
John A. Blankenship,
Regional Director, Denver, Colorado.

[FR Doc. 01-12004 Filed 5-14-01; 8:45 am]

BILLING CODE 4310-55-P